DEPARTMENT OF COMMERCE

Foreign-Trade Zones Board

[Order No. 2088]

Grant of Authority; Establishment of a Foreign-Trade Zone Under the Alternative Site Framework; Lufkin, Texas

Pursuant to its authority under the Foreign-Trade Zones Act of June 18, 1934, as amended (19 U.S.C. 81a-81u), the Foreign-Trade Zones Board (the Board) adopts the following Order:

Whereas, the Foreign-Trade Zones (FTZ) Act provides for “ . . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the City of Lufkin (the Grantee) has made application to the Board (B-56-2018, docketed September 5, 2018) requesting the establishment of a foreign-trade zone under the ASF with a service area of the City of Lufkin and a portion of its Extra Territorial Jurisdiction, adjacent to the Port Arthur-Beaumont port of entry;

Whereas, notice inviting public comment has been given in the Federal Register (83 FR 45879-45880, September 11, 2018) and the application has been processed pursuant to the FTZ Act and the Board's regulations; and,

Whereas, the Board adopts the findings and recommendations of the examiner's report, and finds that the requirements of the FTZ Act and the Board's regulations are satisfied;

Now, therefore, the Board hereby grants to the Grantee the privilege of establishing a foreign-trade zone, designated on the records of the Board as Foreign-Trade Zone No. 297, as described in the application, and subject to the FTZ Act and the Board's regulations, including Section 400.13, and to the Board's standard 2,000-acre activation limit.

Dated: December 17, 2019.
Wilbur L. Ross, Jr.,
Secretary of Commerce, Chairman and Executive Officer, Foreign-Trade Zones Board.

[FR Doc. 2019-28208 Filed 12-30-19; 8:45 am]

BILLING CODE 3510-DS-P